DEPARTMENT OF AGRICULTURE

Animal and Plant Health Inspection Service

[Docket No. APHIS-2017-0008]

Notice of Request for Reinstatement of an Information Collection; National Animal Health Monitoring System; Equine Herpesvirus Study

AGENCY: Animal and Plant Health Inspection Service, USDA.

ACTION: Reinstatement of an information collection; comment request.

SUMMARY: In accordance with the Paperwork Reduction Act of 1995, this notice announces the Animal and Plant Health Inspection Service's intention to request the reinstatement of an information collection for a National Animal Health Monitoring System Equine Herpesvirus Study to support the equine industry in the United States.

DATES: We will consider all comments that we receive on or before August 18, 2017.

ADDRESSES: You may submit comments by either of the following methods:

• Federal eRulemaking Portal: Go to http://www.regulations.gov/#!docketDetail;D=APHIS-2017-0008.

• Postal Mail/Commercial Delivery: Send your comment to Docket No. APHIS-2017-0008, Regulatory Analysis and Development, PPD, APHIS, Station 3A-03.8, 4700 River Road, Unit 118, Riverdale, MD 20737-1238.

Supporting documents and any comments we receive on this docket may be viewed at http://www.regulations.gov/#!docketDetail;D=APHIS-2017-0008 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the Equine Herpesvirus Study, contact Mr. Bill Kelley, Supervisory Analyst, Centers for Epidemiology and Animal Health, VS, APHIS, 2150 Centre Avenue, Building B MS 2E6, Fort Collins, CO 80526; (970) 494-7270. For copies of more detailed information on the information collection, contact Ms. Kimberly Hardy, APHIS' Information Collection Coordinator, at (301) 851-2483.

SUPPLEMENTARY INFORMATION:

Title: National Animal Health Monitoring System; Equine Herpesvirus Study.

OMB Control Number: 0579-0399.

Type of Request: Reinstatement of an approved information collection.

Abstract: Under the Animal Health Protection Act (7 U.S.C. 8301 et seq.), the Animal and Plant Health Inspection Service (APHIS) of the U.S. Department of Agriculture (USDA) is authorized, among other things, to protect the health of U.S. livestock and poultry populations by preventing the introduction and interstate spread of serious diseases and pests of livestock and for eradicating such diseases from the United States when feasible. In connection with this mission, APHIS operates the National Animal Health Monitoring System (NAHMS), which collects nationally representative, statistically valid, and scientifically sound data on the prevalence and economic importance of livestock diseases and associated risk factors.

NAHMS' epidemiologic investigations are a collaborative industry and government initiative to help determine the most effective means of preventing and controlling livestock disease outbreaks. APHIS is the only agency responsible for collecting data on livestock health. Participation in any NAHMS study is voluntary, and all data are confidential.

APHIS conducts an equine herpesvirus myeloencephalopathy (EHM) study as part of an ongoing series of NAHMS studies on the U.S. livestock population. The purpose of this study is to collect information using questionnaires to identify risk factors for EHM, the neurologic form of equine herpesvirus (EHV-1) in horses. EHV-1 is an infection of horses that can cause respiratory disease, abortion in mares, neonatal foal death, and/or neurologic disease. The virus can spread through direct horse-to-horse contact, through the air in equine environments, and on contaminated equipment, clothing, and hands. EHM is endemic to the United States and outbreaks are usually handled by the States affected; USDA becomes involved in cases involving multiple States or interstate movement of horses.

In person or by telephone interview, APHIS-designated data collectors will administer questionnaires to horse owners and trainers of horses infected with EHV-1 during outbreaks that include cases of EHM and horses that are noninfected to serve as case controls. The information collected is used to understand the risk factors for EHM, make recommendations for disease control, and provide guidance on the best ways to avoid future outbreaks based on a thorough analysis of the data.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.79 hours per response.

Respondents: Horse owners and horse trainers.

Estimated annual number of respondents: 626.

Estimated annual number of responses per respondent: 1.57.

Estimated annual number of responses: 982.

Estimated total annual burden on respondents: 778 hours. (Due to averaging, the total annual burden hours may not equal the product of the annual number of responses multiplied by the reporting burden per response.)

All responses to this notice will be summarized and included in the request for OMB approval. All comments will also become a matter of public record.

Done in Washington, DC, this 13th day of June 2017.
Michael C. Gregoire,
Acting Administrator, Animal and Plant Health Inspection Service.

[FR Doc. 2017-12644 Filed 6-16-17; 8:45 am]

BILLING CODE 3410-34-P